OFFICE OF PERSONNEL MANAGEMENT

Proposed Collection; Request for Comments on a Revised Information Collection: (OMB Control No. 3206-0170; Standard Forms SF 3106 and SF 3106A)

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of a revised information collection. This information collection, “Application for Refund of Retirement Deductions Federal Employees Retirement System (FERS),” (OMB Control No. 3206-0170; Standard Form 3106), is used by former Federal employees under FERS, to apply for a refund of retirement deductions withheld during Federal employment, plus any interest provided by law. “Current/Former Spouse(s) Notification of Application for Refund of Retirement Deductions Under FERS” (OMB Control No. 3206-0170; Standard Form 3106A), is used by refund applicants to notify their current/former spouse(s) that they are applying for a refund of retirement deductions, which is required by law.

Comments are particularly invited on: whether this collection of information is necessary for the proper performance of functions of the Office of Personnel Management, and whether it will have practical utility; whether our estimate of the public burden of this collection of information is accurate, and based on valid assumptions and methodology; and ways in which we can minimize the burden of the collection of information on those who are to respond, through the use of appropriate technological collection techniques or other forms of information technology.

Approximately 17,000 SF 3106 forms will be processed annually. The SF 3106 takes approximately 30 minutes to complete for a total of 8,500 hours annually. Approximately 13,600 SF 3106A forms will be processed annually. The SF 3106A takes approximately 5 minutes to complete for a total of 1,133 hours. The total annual estimated burden is 9,633 hours.

For copies of this proposal, contact Cyrus S. Benson on (202) 606-0623, FAX (202) 606- 0910 or via e-mail to Cyrus.Benson@opm.gov. Please include a mailing address with your request.

DATES: Comments on this proposal should be received within 60 calendar days from the date of this publication.

ADDRESSES: Send or deliver comments to—James K. Freiert, Deputy Assistant Director, Retirement Services Program, Center for Retirement and Insurance Services, U.S. Office of Personnel Management, 1900 E Street, NW., Room 3305, Washington, DC 20415-3500.

FOR FURTHER INFORMATION CONTACT: For information regarding administrative coordination contact: Cyrus S. Benson, Team Leader, Publications Team, RIS Support Services/Support Group, U.S. Office of Personnel Management, 1900 E Street, NW., Room 4H28, Washington, DC 20415, (202) 606-0623.

U.S. Office of Personnel Management
John Berry,
Director.

[FR Doc. E9-25126 Filed 10-19-09; 8:45 am]

BILLING CODE 6325-38-P